INTERNATIONAL TRADE COMMISSION

[Investigation No. 337-TA-1466]

Certain Antibody Drug Conjugates and Components Thereof and Products Containing the Same; Institution of Investigation

AGENCY: U.S. International Trade Commission.

ACTION: Notice.

SUMMARY: Notice is hereby given that a complaint filed with the U.S. International Trade Commission on November 18, 2025, under section 337 of the Tariff Act of 1930, as amended, on behalf of AbbVie Inc. of North Chicago, Illinois; ImmunoGen, Inc. of Waltham, Massachusetts; and ImmunoGen Switzerland GmbH. A letter supplementing the complaint was filed on December 10, 2025. The complaint alleges violations of section 337 based upon the importation into the United States of certain antibody drug conjugates and components thereof and products containing the same by reason of misappropriation of trade secrets the threat or effect of which is to destroy or substantially injure an industry in the United States or to prevent the establishment of an industry in the United States.

The complainants request that the Commission institute an investigation and, after the investigation, issue a limited exclusion order and cease and desist orders.

Addresses: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations., U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2025).

Scope of Investigation: Having considered the complaint, the U.S. International Trade Commission, on December 17, 2025, ordered that—

(1) Pursuant to subsection (b) of section 337 of the Tariff Act of 1930, as amended, an investigation be instituted to determine whether there is a violation of subsection (a)(1)(A) of section 337 in the importation into the United States of certain products identified in paragraph (2) by reason of misappropriation of trade secrets, the threat or effect of which is to destroy or substantially injure an industry in the United States or to prevent the establishment of an industry in the United States;

(2) Pursuant to section 210.10(b)(1) of the Commission's Rules of Practice and Procedure, 19 CFR 210.10(b)(1), the plain language description of the accused products or category of accused products, which defines the scope of the investigation, is “certain antibody drug conjugates called Rina-S (also known as “rinatabart sesutecan,” “PRO1184,” or “GEN1184”), certain components thereof (i.e., fragments of the fully intact Rina-S ADC that include the linker as part of the molecular structure, including (1) the linker itself; (2) the linker combined with (bonded to) the antibody; or (3) the linker combined with (bonded to) the drug payload), and products containing them used in treating ovarian cancer”;

(3) Pursuant to Commission Rule 210.50(b)(l), 19 CFR 210.50(b)(1), the presiding administrative law judge shall take evidence or other information and hear arguments from the parties or other interested persons with respect to the public interest in this investigation, as appropriate, and provide the Commission with findings of fact and a recommended determination on this issue, which shall be limited to the statutory public interest factors set forth in 19 U.S.C. 1337(d)(l), (f)(1), (g)(1);

(4) For the purpose of the investigation so instituted, the following are hereby named as parties upon which this notice of investigation shall be served:

(a) The complainants are:

AbbVie Inc., 1 North Waukegan Road, North Chicago, IL 60064

ImmunoGen, Inc., 830 Winter Street, Waltham, MA 02451-1477

ImmunoGen Switzerland GmbH, Gotthardstrasse 26, 6300 ZUG, Switzerland

(b) The respondents are the following entities alleged to be in violation of section 337, and are the parties upon which the complaint is to be served:

ProfoundBio US Co., 401 Terry Avenue N, Seattle, WA 98109

ProfoundBio (Suzhou) Co., Ltd., No. 1 Xinze Road, Suzhou Industrial Park, Suzhou, China 215021

Genmab A/S, Carl Jacobsens Vej 30, 2500 Valby, Denmark

Genmab B.V., Yalelaan 60, Utrecht, Utrecht, 3584 CM, Netherlands

Genmab US, Inc., 777 Scudders Mill Road, Plainsboro, NJ 08536

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: December 17, 2025.
Lisa Barton,
Secretary to the Commission.

[FR Doc. 2025-23515 Filed 12-19-25; 8:45 am]

BILLING CODE 7020-02-P